FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011383-040.

Title: Venezuelan Discussion Agreement.

Parties: Hamburg-Süd, Seaboard Marine Ltd., King Ocean Service de Venezuela, and SeaFreight Line.

Filing Party: Wayne R. Rohde, Esq.; Sher & Blackwell LLP; 1850 M Street, NW., Suite 900; Washington, DC 20036.

Synopsis: The amendment adds provisions dealing with specific liability for penalties, financial security, and dispute resolution.

Agreement No.: 011550-011.

Title: ABC Discussion Agreement.

Parties: A.P. Moller-Maersk A/S, Hamburg-Süd, King Ocean Services Limited, and SeaFreight Line.

Filing Party: Wayne R. Rohde, Esq.; Sher & Blackwell LLP; 1850 M Street, NW., Suite 900; Washington, DC 20036.

Synopsis: The amendment adds provisions dealing with specific liability for civil penalties and dispute resolution.

Agreement No.: 011673-001.

Title: Space Charter Agreement Between Kambara Kisen Co., Ltd. and Mariana Express Lines Limited.

Parties: Kambara Kisen Co., Ltd. and Mariana Express Lines Limited.

Filing Parties: Charles L. Coleman, III, Esq.; Holland & Knight LLP; 50 California Street, Suite 2800; San Francisco, CA 94111.

Synopsis: The amendment reduces the number of slots the parties will exchange and updates Mariana Express's address.

Agreement No.: 011705-004.

Title: Grand Alliance-Americana Atlantic Agreement.

Parties: Hapag-Lloyd Container Line GmbH; Nippon Yusen Kaisha; Orient Overseas Container Line Limited, Orient Overseas Container Line, Inc., and Orient Overseas Container Line (Europe) Limited (acting as one party); P&O Nedlloyd Limited/P&O Nedlloyd BV; and CP Ships USA, LLC.

Filing Party: Wayne R. Rohde, Esq.; Sher & Blackwell LLP; 1850 M Street, NW., Suite 900; Washington, DC 20036.

Synopsis: The amendment changes Lykes Lines Limited, LLC's name to CP Ships USA, LLC; deletes TMM Lines Limited, LLC as a party; deletes obsolete language; changes the name of the agreement to the Grand Alliance-CP Ships Atlantic Agreement; and restates the agreement.

Agreement No.: 011798-003.

Title: Atlantic Space Charter Agreement.

Parties: Hapag-Lloyd Container Line; Nippon Yusen Kaisha; Orient Overseas Container Line Limited; Orient Overseas Container Line (Europe) Limited; Orient Overseas Container Line Inc.; P&O Nedlloyd Limited; P&O Nedlloyd B.V.; CP Ships USA LLC; COSCO Container Lines Company, Ltd.; Kawasaki Kisen Kaisha, Ltd; Yang Ming (UK) Ltd.

Filing Counsel: Wayne R. Rohde, Esq.; Sher & Blackwell LLP; 1850 M Street, NW., Suite 900; Washington, DC 20036.

Synopsis: The amendment changes Lykes Lines' name to CP Ships USA, LLC and deletes TMM Lines as a party.

Dated: August 12, 2005.
By Order of the Federal Maritime Commission.
Bryant VanBrakle,
Secretary.

[FR Doc. 05-16317 Filed 8-16-05; 8:45 am]

BILLING CODE 6730-01-U